FEDERAL COMMUNICATIONS COMMISSION

[FCC 06-91]

Notice of Debarment and Order Denying Waiver Petition

AGENCY: Federal Communications Commission.

ACTION: Notice.

SUMMARY: The Enforcement Bureau (Bureau) debars NEC-Business Network Solutions, Inc.'s (NEC) from all activities associated with the schools and libraries universal service support mechanism, also known as the E-Rate program. NEC pled guilty to and was convicted of serious fraud-related felonies against the E-Rate program. We find NEC's conduct merits a debarment of at least three years, as contemplated by our debarment rule, but in light of several important factors, we will impose a debarment period of six months from the effective date of this Order.

DATES: Debarment commences on the date NEC-Business Network Solutions, Inc. receives the debarment letter or whichever date comes first, for a period of six months.

FOR FURTHER INFORMATION CONTACT: Diana Lee, Federal Communications Commission, Enforcement Bureau, Investigations and Hearings Division, Room 4-A265, 445 12th Street, SW., Washington, DC 20554. Diana Lee may be contacted by phone at 202-418-1420 or e-mail at diana.lee@fcc.gov.

SUPPLEMENTARY INFORMATION: This a summary of the Commission's Notice of Debarment and Order Denying Waiver Petition, released June 30, 2006. As an additional precaution to protect the E-Rate program, we put in place two monitoring measures to ensure NEC's compliance upon its re-entry into the E-Rate program. First, we order USAC to review with heightened scrutiny NEC's applications submitted during the first two funding years after re-entry.¹ Second, we order the Administrator to conduct automatic annual audits regarding NEC's compliance with the Act and the Commission's rules governing the E-Rate program, for each of the first two funding periods upon NEC's re-entry. We find these additional precautionary measures are necessary to ensure that E-Rate funds are used only for their intended purpose and that the program is not subject to additional waste, fraud, or abuse. The full text of this Notice is available for inspection and copying during normal business hours in the FCC Reference Center, Room CY-A-257, 445 12th Street, SW., Washington, DC 20554. The complete text may also be purchased from the Commission's duplicating contractor, Best Copy and Printing, Inc. (BCP), Portals II, 445 12th Street, SW., Room CY-B402, Washington, DC 20554. The complete item is also available on the Commission's Web site at http://www.fcc.gov/eb.

¹ See Fifth Report and Order, 19 FCC Rcd at 15822-23, para. 44. We note that the Commission currently is considering what particular requirements, if any, that it should apply in conducting heightened review of E-Rate program participants. See Universal Service Fund Oversight NPRM, 20 FCC Rcd at 11345, para. 91.

Federal Communications Commission.
William H. Davenport,
Chief, Investigations and Hearings Division, Enforcement Bureau.

[FR Doc. E6-11631 Filed 7-25-06; 8:45 am]

BILLING CODE 6712-01-P